DEPARTMENT OF THE INTERIOR

Fish and Wildlife Service

[FWS-R6-ES-2009-N0047; 60120-1113-0000-D2]

Endangered and Threatened Wildlife and Plants; Permits

AGENCY: Fish and Wildlife Service, Interior.

ACTION: Notice of receipt of applications for permits.

SUMMARY: We announce our receipt of applications to conduct certain activities pertaining to enhancement of survival of endangered species. The Endangered Species Act requires that we invite public comment on these permit applications.

DATES: Written comments on this request for a permit must be received by May 8, 2009.

ADDRESSES: Written data or comments should be submitted to the Assistant Regional Director-Ecological Services, U.S. Fish and Wildlife Service, P.O. Box 25486, Denver Federal Center, Denver, Colorado 80225-0486; facsimile (303) 236-0027.

SUPPLEMENTARY INFORMATION:

Public Availability of Comments

Before including your address, telephone number, e-mail address, or other personal indentifying information in your comment, you should be aware that your entire comment—including your personal identifying information—may be made publicly available at any time. While you can ask us in your comment to withhold your personal identifying information from public review, we cannot guarantee that we will be able to do so.

Document Availability

Documents and other information submitted with these applications are available for review, subject to the requirements of the Privacy Act (Act; 5 U.S.C. 552A) and Freedom of Information Act (Act; 5 U.S.C. 552), by any party who submits a request for a copy of such documents within 30 days of the date of publication of this notice to Kris Olsen (see ADDRESSES), by mail or by telephone at (303) 236-4256. All comments received from individuals become part of the official public record.

The following applicants have requested issuance of enhancement of survival permits to conduct certain activities with endangered species pursuant to Section 10(a)(1)(A) of the Endangered Species Act of 1973, as amended (Act; 16 U.S.C. 1531 et seq.).

Applications

Applicant: Chris Mammoliti, Topeka, Kansas, TE-087666. The applicant requests a renewed permit to take Topeka shiner (Notropis topeka) and American burying beetle (Nicrophorus americanus) in conjunction with recovery activities throughout the species' range for the purpose of enhancing their survival and recovery.

Applicant: Scott Campbell, University of Kansas, Kansas Biological Survey, Lawrence, Kansas, TE-038527. The applicant requests a renewed permit to take Topeka shiner (Notropis topeka) in conjunction with recovery activities throughout the species' range for the purpose of enhancing their survival and recovery.

Applicant: Brad Petch, Colorado Division of Wildlife, Meeker, Colorado, TE-080990. The applicant requests a renewed permit to take black-footed ferret (Mustela nigripes) and Colorado pikeminnow (Ptychocheilus lucius) in conjunction with recovery activities throughout the species' range for the purpose of enhancing their survival and recovery.

Applicant: Jerald Powell, Wildlife Specialties, Lyons, Colorado, TE-080647. The applicant requests a renewed permit to take Southwestern willow flycatcher (Empidonax traillii extimus) in conjunction with recovery activities throughout the species' range for the purpose of enhancing their survival and recovery.

Applicant: Ron Merritt, Roosevelt Park Zoo, Minot, North Dakota, TE-091150. The applicant requests a renewed permit to display pallid sturgeon (Scaphirhynchus albus) in conjunction with recovery activities throughout the species' range for the purpose of enhancing their survival and recovery.

Applicant: Cody Wilson, U.S. Army Corps of Engineers, Pickstown, South Dakota, TE-094832. The applicant requests a renewed permit to take pallid sturgeon (Scaphirhynchus albus) in conjunction with recovery activities throughout the species' range for the purpose of enhancing their survival and recovery.

Applicant: Michael Smith, Colorado Division of Wildlife, Lamar, Colorado, TE-083415. The applicant requests a renewed permit to take interior least tern (Sterna antillarum athalassos) in conjunction with recovery activities throughout the species' range for the purpose of enhancing their survival and recovery.

Applicant: Stephanie Jones, U.S. Fish and Wildlife Service, Denver, Colorado, TE-047917. The applicant requests a renewed permit to take Southwestern willow flycatcher (Empidonax traillii extimus) in conjunction with recovery activities throughout the species' range for the purpose of enhancing their survival and recovery.

Applicant: Jesse Wilkens, Huron, South Dakota, TE-207949. The applicant requests a permit to take Topeka shiner (Notropis topeka) in conjunction with recovery activities throughout the species' range for the purpose of enhancing their survival and recovery.

Applicant: C. Alex Buerkle, University of Wyoming, Laramie, Wyoming, TE-207945. The applicant requests a permit to remove and reduce to possession Penstemon penlandii (Penland beardtongue) in conjunction with recovery activities throughout the species' range for the purpose of enhancing their survival and recovery.

Applicant: Timothy Griffin, U.S. Forest Service, Nebraska National Forest, Halsey, Nebraska, TE-131639. The applicant requests a permit amendment to remove and reduce to possession Penstemon haydenii (Blowout penstemon) in conjunction with recovery activities throughout the species' range for the purpose of enhancing its survival and recovery.

Dated: March 25, 2009.
Noreen E. Walsh,
Acting Regional Director, Denver, Colorado.

[FR Doc. E9-7944 Filed 4-7-09; 8:45 am]

BILLING CODE 4310-55-P